FEDERAL MARITIME COMMISSION

Notice of Agreements Filed

The Commission hereby gives notice of the filing of the following agreements under the Shipping Act of 1984. Interested parties may obtain copies of agreements by contacting the Commission's Office of Agreements at 202-523-5793 or via email at tradeanalysis@fmc.gov. Interested parties may submit comments on an agreement to the Secretary, Federal Maritime Commission, Washington, DC 20573, within 10 days of the date this notice appears in the Federal Register.

Agreement No.: 011867-002.

Title: Norasia/GSL Round the World Service Agreement.

Parties: China Shipping Container Lines Co., Ltd.; China Shipping Container Lines (Hong Kong) Co., Ltd.; Gold Star Line Ltd.; and Norasia Container Lines Limited. Ltd.

Filing Party: Brett M. Esber, Esq.; Blank Rome LLP; Watergate 600 New Hampshire Ave., NW.; Washington, DC 20037.

Synopsis: The amendment adds China Shipping Container Lines (Hong Kong) Co., Ltd. as a party to the agreement and expands the geographic scope to all of the United Arab Emirates.

Agreement No.: 011906.

Title: HSDG/Evergreen Space Charter Agreement.

Parties: Hamburg Sud and Evergreen Marine Corp.(Taiwan) Ltd.

Filing Party: Wayne R. Rohde, Esq.; Sher & Blackwell LLP; 1850 M Street, NW.; Washington, DC 20036.

Synopsis: The proposed agreement permits Hamburg Sud to charter space to Evergreen in the trade between U.S. East Coast ports and ports on the East Coast of South America.

Agreement No.: 201143-005.

Title: West Coast MTO Agreement.

Parties: APM Terminals Pacific; California United Terminals, Inc.; Eagle Marine Services, Ltd.; Husky Terminals, Inc.; International Transportation Service, Inc,; Long Beach Container Terminal, Inc.; Marine Terminals Corp.; Seaside Transportation Service LLC; Trans Bay Container Terminal, Inc.; Trans Pacific Container Service Corporation; Total Terminals LLC; West Basin Container Terminal LLC; Yusen Terminals, Inc.; Pacific Maritime Services, L.L.C.; and SSA Terminal (Long Beach), LLC.

Synopsis: The amendment clarifies the authority of the parties, makes a number of membership changes, clarifies matters relating membership revocations, revises the arbitration provision, provides for electronic voting, and makes a number of technical corrections in the agreement.

Agreement No.: 201164.

Title: Marine Terminal Lease and Operating Agreement Between Broward County and H.T. Shipping, Inc.

Parties: Broward County and H.T. Shipping, Inc., with Tropical Shipping and Construction Company Limited and Hybur, Ltd. as co-guarantors.

Filing Party: Candace J. McCann; Broward County Board of County Commissioners; Office of the County Attorney; 1850 Eller Drive Suite 502; Fort Lauderdale, FL 33316.

Synopsis: The agreement provides for the lease of terminal facilities at Port Everglades, Florida.

By Order of the Federal Maritime Commission.
Dated: March 4, 2005.
Bryant L. VanBrakle,
Secretary.

[FR Doc. 05-4632 Filed 3-8-05; 8:45 am]

BILLING CODE 6730-01-P